INTERNATIONAL TRADE COMMISSION

Notice of Appointment of Individuals To Serve as Members of Performance Review Boards

AGENCY: United States International Trade Commission.

ACTION: Appointment of Individuals to serve as members of Performance Review Board.

Effective Dates: September 26, 2005.

FOR FURTHER INFORMATION CONTACT: Jeri L. Buchholz, Director of Human Resources, U.S. International Trade Commission (202) 205-2651.

SUPPLEMENTARY INFORMATION: The Chairman of the U.S. International Trade Commission has appointed the following individuals to serve on the Commission's Performance Review Board (PRB):

Chairman of PRB—Vice-Chairman Deanna Tanner Okun.

Chairman of PRB—Commissioner Jennifer A. Hillman.

Member—Robert A. Rogowsky.

Member—Lyn M. Schlitt.

Member—Stephen A. McLaughlin.

Member—Lynn I. Levine.

Member—Robert G. Carpenter.

Member—Robert B. Koopman.

Member—James Lyons.

Member—Karen Laney-Cummings.

This notice is published in the Federal Register pursuant to the requirement of 5 U.S.C. 4314(c)(4). Hearing-impaired individuals are advised that information on this matter can be obtained by contacting our TDD terminal on (202) 205-1810.

By order of the Chairman:
Issued: September 26, 2005.
Marilyn R. Abbott,
Secretary to the Commission.

[FR Doc. 05-19608 Filed 9-29-05; 8:45 am]

BILLING CODE 7020-02-P